NATIONAL SCIENCE FOUNDATION

Special Emphasis Panel in Physics; Notice of Meeting

In accordance with the Federal Advisory Committee Act (Pub. L. 92-463, as amended), the National Science Foundation announces the following meeting:

Name: Special Emphasis Panel in Physics (1208).

Date/Time: March 2-4, 2000; 9 a.m.-5:30 p.m.

Place: National Science Foundation, 4201 Wilson Blvd., Room 1015, Arlington, VA 22230.

Type of Meeting: Closed.

Contact Person: Boris Kayser, Program Director for Theoretical Physics, National Science Foundation, 4201 Wilson Blvd, Room 1015, Arlington, VA 22230. Telephone: (703) 306-1889.

Purpose of Meeting: To provide advice and recommendations concerning proposals submitted to NSF for financial support in the Theoretical Physics Program.

Agenda: To review and evaluate proposals as part of the selection process for awards.

Reason for Closing: The proposals being reviewed include information of a proprietary or confidential nature, including technical information, financial data, such as salaries; and personal information concerning individuals associated with the proposals. These matters are exempt under 5 U.S.C. 552b(c),(4) and (6) of the Government in the Sunshine Act.

Dated: February 10, 2000.
Karen J. York,
Committee Management Officer.

[FR Doc. 00-3546 Filed 2-14-00; 8:45 am]

BILLING CODE 7555-01-M